DEPARTMENT OF TRANSPORTATION

[DOT-OST-2022-0088]

Notice of Solicitation of Membership for the DOT Advisory Committee on Human Trafficking (ACHT)

AGENCY: Office of the Secretary of Transportation (OST), U.S. Department of Transportation (DOT).

ACTION: Notice of solicitation of membership.

SUMMARY: Pursuant to Section 23020, Report on human trafficking violations involving commercial motor vehicles, of the Bipartisan Infrastructure Law (BIL), enacted as the Infrastructure Investment and Jobs Act, the Secretary of Transportation (Secretary) requests nominations for membership on the Department of Transportation Advisory Committee on Human Trafficking (Committee). The Committee was reestablished on July 29, 2022, to fulfill the BIL requirement.

DATES: Nominations for Committee members must be received on or before 5:00 p.m. ET on October 7, 2022. The Department encourages nominations submitted any time before the deadline. After that date, the Department will continue to accept nominations under this notice to fill any vacancies that may arise.

ADDRESSES: Interested candidates may submit a completed application by one of the following methods:

• Email: trafficking@dot.gov. Subject Line: Nominations for the Advisory Committee on Human Trafficking.

• Mail: Attention: Nominations for the Advisory Committee on Human Trafficking, Maha Alkhateeb, International Relations Specialist, Office of International Transportation and Trade, Room W86-416, U.S. Department of Transportation, 1200 New Jersey Ave. SE, Washington, DC 20590. Please include name, mailing address, email, and telephone number.

FOR FURTHER INFORMATION CONTACT: Maha Alkhateeb, International Relations Specialist, Office of International Transportation and Trade, at trafficking@dot.gov or (202) 366-8160.

SUPPLEMENTARY INFORMATION:

I. Who should be considered for nomination as Committee members?

The Department of Transportation seeks nominations for members of the Advisory Committee on Human Trafficking. The Secretary of Transportation will appoint up to 15 external stakeholder Committee members including representatives from—(A) trafficking advocacy organizations; (B) law enforcement; and (C) trucking, bus, rail, aviation, maritime, and port sectors, including industry and labor. Committee members will be selected with a view towards achieving diverse experience and background. To the extent practicable, Committee members will include survivors of human trafficking and other persons with lived experience and knowledge of the needs of underrepresented groups. Diverse experience and background will enable Committee members to provide balanced points of view with regard to carrying out the duties of the Committee. Committee members will serve for the life of the Committee.

The Committee will provide a triennial report (“report”) to the Secretary of Transportation. The report will: (1) relate to human trafficking violations involving commercial motor vehicles, (2) include recommendations for countering human trafficking, and (3) include an assessment of previous best practices by transportation stakeholders.

Registered lobbyists are prohibited from serving on Federal advisory committees in their individual capacities. The prohibition does not apply if registered lobbyists are specifically appointed to represent the interests of a nongovernmental entity, a recognizable group of persons or nongovernmental entities (an industry sector, labor unions, environmental groups, etc.) or State or local governments. Registered lobbyists are lobbyists required to comply with provisions contained in the Lobbying Disclosure Act of 1995 (Pub. L. 110-81).

II. Do advisory committee on human trafficking members receive compensation and/or per diem?

While attending meetings or when otherwise engaged in Committee business, Committee members may be reimbursed for travel and per diem expenses as permitted under applicable Federal travel regulations. Reimbursement is subject to funding availability. Committee members shall serve without compensation, except for those SGEs appointed for their lived experience as survivors of human trafficking, who may receive compensation subject to applicable laws and funding availability.

III. What is the process for submitting nominations?

Individuals can self-apply or be nominated by any individual or organization. To be considered for the Committee, nominators should submit the following information:

(1) Contact Information

Contact information for the nominee, consisting of:

a. Name

b. Title

c. Organization or Affiliation

d. Mailing Address

e. Telephone Number

f. Email Address

g. Website Address

(2) Region

The region in which an individual nominee or organization is based: National, Midwest, Northeast, South, or West.

(3) Sector

The sector the nominee represents: aviation, bus, maritime, port, rail, transit, trucking, industry/labor, trafficking advocacy organization, trafficking survivor, law enforcement, etc.

(4) Statement of Nomination

A statement of nomination limited to 250 words on why the nominee wants to serve or why the nominator is nominating the nominee to serve on the Advisory Committee on Human Trafficking, and the unique anti-human trafficking perspectives and experiences the nominee would bring to the Committee.

(5) Résumé

A résumé limited to 3 pages describing professional and academic expertise, experience, and knowledge, including any anti-human trafficking-related expertise and accomplishments, and any relevant experience serving on advisory committees, past and present.

(6) Organizational Background

A short description about the organization that the nominee represents, if applicable, including any anti-human trafficking-related initiatives and accomplishments.

(7) Eligibility Statement

An affirmative statement that the nominee meets all Committee eligibility requirements.

(8) Representation

An affirmative statement that the nominee is not a federally registered lobbyist seeking to serve on the Committee in their individual capacity.

Please do not send company, trade association, organizational brochures, or any other promotional information. Materials submitted should total five pages or less, must be in a 12-point font, and must be formatted as a Microsoft Word document or PDF. Should more information be needed, Department of Transportation staff will contact the nominee, obtain information from the nominee's past affiliations, or obtain information from publicly available sources. If you are interested in applying to become a member of the Committee, send a completed application package by email to trafficking@dot.gov or by mail to Attention: Nominations for the Advisory Committee on Human Trafficking, Maha Alkhateeb, International Relations Specialist, Office of International Transportation and Trade, Room W86-416, U.S. Department of Transportation, 1200 New Jersey Ave. SE, Washington, DC 20590.

Applications must be received on or before 5:00 p.m. ET October 7, 2022; however, candidates are encouraged to submit an application any time before the deadline.

IV. How will DOT select Advisory Committee on Human Trafficking members?

A selection team comprising representatives from the Office of Aviation and International Affairs will review the application packages. The selection team will make recommendations regarding membership to the Secretary based on the following criteria: (1) Counter-trafficking expertise, experience, and knowledge, including personal (survivors), professional, or academic expertise; (2) stakeholder representation; (3) availability and willingness to serve; and (4) relevant experience working in committees and advisory panels. To the extent practicable, the membership of the committee shall include persons with lived experience and knowledge of the needs of underrepresented groups. Nominees selected for appointment to the Committee will be notified by return email and by a letter of appointment.

(Authority: Pub. L. 117-58 (Nov 15, 2021) and Pub. L. 115-99 (Jan 3, 2018)).

Issued on: August 3, 2022.
Carol Annette Petsonk,
Assistant Secretary for Aviation and International Affairs, U.S. Department of Transportation.

[FR Doc. 2022-16956 Filed 8-5-22; 8:45 am]

BILLING CODE 4910-9X-P